FEDERAL ELECTION COMMISSION

Sunshine Act Meeting

AGENCY: Federal Election Commission.

DATE AND TIME: Tuesday March 3, 2015 at 10:00 a.m. and its Continuation on Thursday March 5, 2015 at the Conclusion of the Open Meeting.

PLACE: 999 E Street NW., Washington, DC.

STATUS: This meeting will be closed to the public.

FEDERAL REGISTER NOTICE OF PREVIOUS ANNOUNCEMENT: 80 FR 10482, February 26, 2015.

CHANGE IN THE MEETING: The meeting will be continued at the conclusion of the open meeting on Tuesday, March 10, 2015.

* * * * *

PERSON TO CONTACT FOR INFORMATION: Judith Ingram, Press Officer, Telephone: (202) 694-1220.

Shawn Woodhead Werth,
Secretary and Clerk of the Commission.

[FR Doc. 2015-05441 Filed 3-4-15; 04:15 pm]

BILLING CODE 6715-01-P